DEPARTMENT OF COMMERCE

International Trade Administration

[A-533-843, A-570-901]

Certain Lined Paper Products From India and the People's Republic of China: Final Results of Expedited Third Sunset Reviews of the Antidumping Duty Orders

AGENCY: Enforcement and Compliance, International Trade Administration, Department of Commerce.

SUMMARY: As a result of these expedited sunset reviews, the U.S. Department of Commerce (Commerce) finds that revocation of the antidumping duty (AD) orders on certain lined paper products from India and the People's Republic of China (China) would be likely to lead to continuation or recurrence of dumping at the levels indicated in the “Final Results of Review” section of this notice.

DATES: Applicable May 19, 2023.

FOR FURTHER INFORMATION CONTACT: Samuel Brummitt, AD/CVD Operations, Office III, Enforcement and Compliance, International Trade Administration, U.S. Department of Commerce, 1401 Constitution Avenue NW, Washington, DC 20230; telephone: (202) 482-7851.

SUPPLEMENTARY INFORMATION:

Background

On February 1, 2023, Commerce published the notice of initiation of the sunset reviews of the Orders on certain lined paper products from China and India,¹ pursuant to section 751(c) of the Tariff Act of 1930, as amended (the Act).² On February 15, 2023, Commerce received a notice of intent to participate from the domestic interested party for both of the Orders in accordance with 19 CFR 351.218(d)(1)(i).³ The domestic interested party claimed domestic interested party status under section 771(9)(C) of the Act, as each member of the association is a manufacturer of the domestic like product in the United States.⁴ On March 2, 2023, the domestic interested party filed timely substantive responses within the 30-day deadline specified in 19 CFR 351.218(d)(3)(i).⁵ Commerce did not receive a substantive response from any other interested parties with respect to the Orders covered by these sunset reviews, nor was a hearing requested. On March 23, 2023, Commerce notified the U.S. International Trade Commission that it did not receive an adequate substantive response from respondent interested parties.⁶ As a result, pursuant to section 751(c)(3)(B) of the Act and 19 CFR 351.218(e)(1)(ii)(C)(2), Commerce is conducting expedited (120-day) sunset reviews of these Orders.

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Orders).

² See Initiation of Five-Year (Sunset) Reviews, 88 FR 6700 (February 1, 2023).

³ The domestic interested party is the Association of American School Paper Suppliers (AASPS). AASPS consists of the following members: ACCO Brands USA LLC, Norcom Inc., and Top Flight Inc. The members of AASPS are domestic producers of lined paper products. See Domestic Interested Party's Letters, “Certain Lined Paper Products from The People's Republic of China: Notice of Intent to Participate in Sunset Review,” dated February 15, 2023 (NOI China); and “Certain Lined Paper Products from India: Notice of Intent to Participate in Sunset Review,” dated February 15, 2023 (NOI India).

⁴ See NOI China at 2; see also NOI India at 2.

⁵ See Domestic Interested Party's Letters, “Certain Lined Paper Products from China: Substantive Response to Notice of Initiation,” dated March 2, 2023 (Substantive Response China); and “Certain Lined Paper Products from India: Substantive Response to Notice of Initiation,” dated March 2, 2023 (Substantive Response India).

⁶ See Commerce's Letter, “Sunset Reviews Initiated on February 1, 2023,” dated March 23, 2023.

Scope of the Orders

The product covered by these Orders is certain lined paper products from China and India. For a full description of the scope, see the Issues and Decision Memorandum.⁷

⁷ See Memorandum, “Issues and Decision Memorandum for the Final Results of the Third Expedited Sunset Reviews: Certain Lined Paper Products from India and the People's Republic of China,” dated concurrently with, and hereby adopted by, this notice (Issues and Decision Memorandum).

Analysis of Comments Received

All issues raised in these sunset reviews are addressed in the Issues and Decision Memorandum, including the likelihood of continuation or recurrence of dumping and the magnitude of the margins of dumping likely to prevail if these Orders were revoked. A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNotices/ListLayout.aspx. A list of the issues discussed in the decision memorandum is attached as an appendix to this notice.

Final Results of Sunset Review

Pursuant to sections 751(c) and 752(c) of the Act, Commerce determines that revocation of the Orders would be likely to lead to continuation or recurrence of dumping, and that the magnitude of the dumping margins likely to prevail would be weighted-average margins of up to 23.17 percent for India and up to 258.21 percent for China.

Administrative Protective Order

This notice serves as the only reminder to parties subject to administrative protective order (APO) of their responsibility concerning the destruction of proprietary information disclosed under APO in accordance with 19 CFR 351.305(a). Timely notification of the destruction of APO materials or conversion to judicial protective orders is hereby requested. Failure to comply with the regulations and terms of an APO is a violation which is subject to sanction.

Notification to Interested Parties

We are issuing and publishing these final results in accordance with sections 751(c), 752(c), and 777(i)(1) of the Act, and 19 CFR 351.218(e)(1)(ii)(C)(2) and 19 CFR 351.221(c)(5)(ii).

Dated: May 12, 2023.
Lisa W. Wang,
Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins Likely to Prevail

VII. Final Results of Sunset Review

VIII. Recommendation

[FR Doc. 2023-10707 Filed 5-18-23; 8:45 am]

BILLING CODE 3510-DS-P